DEPARTMENT OF JUSTICE

Parole Commission

Public Announcement; Pursuant to the Government in the Sunshine Act (Public Law 94-409) [5 U.S.C. Section 552b]

Agency Holding Meeting: Department of Justice, United States Parole Commission.

Date and Time: 9:30 a.m., Tuesday, February 11, 2003.

Place: 5550 Friendship Boulevard, Fourth Floor, Chevy Chase, Maryland 20815.

Status: Open.

Matters to be Considered: The following matters have been placed on the agenda for the open Parole Commission meeting:

1. Approval of minutes of Previous Commission Meeting.

2. Reports from the Chairman, Commissioners, Legal, Chief of Staff, Case Operations, and Administrative Sections.

3. Proposal to adopt rule providing for an administrative appeal for District of Columbia supervised release violators.

4. Adoption of final rule regarding supervision of military prisoners who are mandatorily released from prison.

5. Proposal to amend rules to consolidate conditions of release.

Agency Contact: Tom Hutchinson, Executive Office, United States Parole Commission, (301) 492-5307.

Dated: February 4, 2003.
Rockne J. Chickinell,
General Counsel, U.S. Parole Commission.

[FR Doc. 03-3129 Filed 2-5-03; 9:34 am]

BILLING CODE 4410-31-M